CORPORATION FOR NATIONAL AND COMMUNITY SERVICE

Agency Information Collection Activities; Submission to the Office of Management and Budget for Review and Approval; Comment Request; CNCS External Reviewer Application; Proposed Information Collection; Comment Request

AGENCY: Corporation for National and Community Service.

ACTION: Notice.

SUMMARY: The Corporation for National and Community Service (CNCS) has submitted a public information collection request (ICR) entitled CNCS External Reviewer Application for review and approval in accordance with the Paperwork Reduction Act.

DATES: Written comments must be submitted to the individual and office listed in the ADDRESSES section by January 29, 2020.

ADDRESSES: Direct written comments and/or suggestions regarding the items contained in this Notice to the Attention: CNCS Desk Officer, Office of Information and Regulatory Affairs, Office of Management and Budget, 725 17th Street NW, Washington, DC 20503 or by fax to (202) 395-5806. Provide written comments within 30 days of Notice publication.

FOR FURTHER INFORMATION CONTACT: Copies of this ICR, with applicable supporting documentation, may be obtained by calling the Corporation for National and Community Service, Amy Hetrick, at 202-606-6856 or by email to ahetrick@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on August 15, 2019 at 84 FR 41707 Page Number 41707. This comment period ended October 15, 2019. Zero public comments were received from this Notice.

Title of Collection: CNCS External Reviewer Application.

OMB Control Number: 3045-0090.

Type of Review: Renewal.

Respondents/Affected Public: Individuals and Households.

Total Estimated Number of Annual Responses: 500.

Total Estimated Number of Annual Burden Hours: 250 hours (Average 30 minutes per response).

Abstract: The External Reviewer Application is used by individuals who wish to serve as External Reviewers or External Panel Coordinators for CNCS when external reviewers are needed to review grant applications. The information collected will be used by CNCS to select review participants for each grant competition. The information is collected electronically using CNCS's web-based system. CNCS seeks to renew the current information collection. CNCS also seeks to continue using the current application until the revised application is approved by OMB. The current application is due to expire on December 31, 2019.

Dated: December 23, 2019.
Amy Borgstrom,
Associate Director of Policy.

[FR Doc. 2019-28148 Filed 12-27-19; 8:45 am]

BILLING CODE 6050-28-P